DEPARTMENT OF COMMERCE

Economic Development Administration

13 CFR Part 312

[Docket No.: 160615526-7122-03]

RIN 0610-AA68

Regional Innovation Program

AGENCY: Economic Development Administration, U.S. Department of Commerce.

ACTION: Final rule; delay of effective date.

SUMMARY: In accordance with the memorandum of January 20, 2017, from the Assistant to the President and Chief of Staff, entitled “Regulatory Freeze Pending Review,” published in the Federal Register on January 24, 2017 (the Memorandum), this action temporarily delays the effective date of the Final Rule entitled “Regional Innovation Program” (Final Rule or Rule) published in the Federal Register on January 11, 2017. The Final Rule implements the Regional Innovation Program of the Economic Development Administration (EDA or the Agency), U.S. Department of Commerce (DOC) and specifically focuses on outlining the regulatory structure of its centerpiece grant program, the Regional Innovation Strategies (RIS) Program.

DATES: The effective date of the Final Rule published in the Federal Register on January 11, 2017 (82 FR 3131), is delayed until March 21, 2017.

FOR FURTHER INFORMATION CONTACT: Mara Quintero Campbell, Regional Counsel, Office of the Chief Counsel, Economic Development Administration, U.S. Department of Commerce, 1401 Constitution Avenue NW., Suite 72023, Washington, DC 20230; telephone: (202) 482-9055.

SUPPLEMENTARY INFORMATION:

I. Background

On January 11 2017, EDA published a Final Rule in the Federal Register (82 FR 3131) implementing the Regional Innovation Program as authorized by section 27 of the Stevenson-Wydler Technology Innovation Act of 1980, as amended. Through the RIS Program, the centerpiece of the Regional Innovation Program, EDA currently awards grants for capacity building programs that provide proof-of concept and commercialization assistance to innovators and entrepreneurs and for operational support for organizations that provide essential early-stage funding to startup companies. The Final Rule lays out the overarching regulatory framework for the RIS Program, including its mission and objectives, applicant eligibility requirements, allowable investment rates, eligible project activities, and required application components. In the Final Rule, the Agency also responds to the one germane comment it received during the 60-day Notice of Proposed Rulemaking (NPRM) comment period that was open between September 21, 2016 and November 21, 2016 (81 FR 64805).

II. Provisions of This Action

This action delays the effective date of the Final Rule from February 10, 2017 to March 21, 2017. This action is issued in accordance with the Memorandum that required temporary postponement of rules, that have been published in the Federal Register but have not yet taken effect, for 60 days from the date of the Memorandum for the purpose of reviewing questions of fact, law, and policy.

III. Determination of Exemption From Notice and Comment

To the extent that the requirements of 5 U.S.C. 553 apply to this action, there is good cause to exempt this action from notice and comment pursuant to 5 U.S.C. 553(b)(B). EDA is delaying the effective date for this action to give DOC officials the opportunity to further review and consider new regulations, consistent with the Memorandum. Given the imminence of the new effective date, seeking prior public comment on this temporary delay would be impractical, unnecessary, and also contrary to the public interest in the orderly promulgation and implementation of regulations.

Dated: January 25, 2017.
Thomas Guevara,
Deputy Assistant Secretary for Regional Affairs, Performing the non-exclusive duties of the Assistant Secretary for Economic Development.

[FR Doc. 2017-02010 Filed 1-30-17; 8:45 am]

BILLING CODE 3510-24-P